DEPARTMENT OF TRANSPORTATION

Federal Highway Administration

Revised Record of Decision and Notice of Final Federal Agency Actions on the West 11th Street to Garfield Street, Florence-Eugene Highway: Lane County, OR

AGENCY: Federal Highway Administration (FHWA), DOT.

ACTION: Notice of Availability of a revised Record of Decision for transportation improvements in Lane County, OR and Notice of Limitations on Claims for Judicial Review of Actions by FHWA.

SUMMARY: The FHWA is issuing this notice to advise the public that a revised record of decision (ROD) has been made for the West 11th Street to Garfield Street, Florence-Eugene-Highway Final Environmental Impact Statement. This notice also announces actions taken by the FHWA that are final agency actions within the meaning of 23 U.S.C. 139(l)(1). These final agency actions relate to a proposed highway project, West 11th Street to Garfield Street, Florence-Eugene Highway in Lane County, Oregon where the revised ROD amends FHWA's April 16, 1990 ROD that had selected Alternative 1 Modified, and selects the no-build alternative.

The Final Environmental Impact Statement was approved and published by FHWA in January 1990 and a ROD was issued on April 16, 1990. This revised ROD amends FHWA's April 16, 1990 ROD that had selected Alternative 1 Modified, and selects the no-build alternative. In large part, FHWA selects the no-build alternative in the revised ROD based on: public and resource agency input, including the Oregon DOT; a Lane Council of Governments resolution; and, a conflict assessment report prepared by FHWA and the City of Eugene. While the no-build does not satisfy an existing transportation need in the area, selecting the no-build alternative is in the best overall public interest at this time.

DATES: By this notice, the FHWA is advising the public of final agency actions subject to 23 U.S.C. 139(l)(1). A claim seeking judicial review of the Federal agency actions on the highway project will be barred unless the claim is filed on or before September 4, 2007. If the Federal law that authorizes judicial review of a claim provides a time period of less than 180 days for filing such claim, then that shorter time period still applies.

FOR FURTHER INFORMATION CONTACT: Michelle Eraut, Environmental Program Manager, Federal Highway Administration, 530 Center Street, NE., Suite 100, Salem, Oregon 97301, Telephone: (503) 587-4716, or Ken Kohl, Project Manager, Oregon Department of Transportation, 644 “A” Street, Eugene, Oregon 97477, Telephone: (541) 747-1496. The FEIS, revised ROD, and other project records are available upon written request from the Federal Highway Administration at the address shown above. Comments or questions concerning this proposed action and the revised ROD should be directed to the FHWA at the address provided above.

SUPPLEMENTARY INFORMATION: Notice is hereby given that the FHWA has taken final agency action subject to 23 U.S.C. 139(l)(1) by issuing a decision for the following highway project in the State of Oregon: West 11th Street to Garfield Street, Florence-Eugene Highway. This project identified a need to address capacity constraints and safety considerations on the current Florence-Eugene Highway on the western edge of Eugene, Oregon. The federal-aid identifier for this project is F 025(003). The actions by the Federal agency and the laws under which such actions were taken, are described in the Final Environmental Impact Statement (FEIS) for the project, approved in January 1990, in the FHWA Revised ROD issued on October 24, 2006, and in other documents in the FHWA project records. This notice applies to all Federal agency decisions as of the issuance date of this notice and all laws under which such actions were taken, including but not limited to:

1. General: National Environmental Policy Act (NEPA) [42 U.S.C 4321-4351]; Federal-Aid Highway Act [23 U.S.C. 109 and 23 U.S.C. 128].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)].

6. Social and Economic: Civil Rights Act of 1964 [42 U.S.C. 2000(d)-2000(d)(1)]; Farmland Protection Policy Act (FPPA) [7 U.S.C. 4201-4209].

7. Wetlands and Water Resources: Clean Water Act (Section 404, Section 401, Section 319) [33 U.S.C. 1251-1377]; Land and Water Conservation Fund (LWCF) [16 U.S.C. 4601-4604]; Safe Drinking Water Act (DSWA) [42 U.S.C. 300(f)-300(j)(6)]; Rivers and Harbors Act of 1899 [33 U.S.C. 401-406]; Wild and Scenic Rivers Act [16 U.S.C. 1271-1287]; Emergency Wetlands Resources Act, [16 U.S.C. 3921, 3931]; Wetlands Mitigation [23 U.S.C. 103(b)(6)(M) and 133(b)(11)]; Flood Disaster Protection Act [42 U.S.C. 4001-4128].

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites, E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

(Authority: 23 U.S.C. 139(l)(1))

Issued on: March 1, 2007.
Michelle Eraut,
Environmental Program Manager, Salem, Oregon.

[FR Doc. E7-4136 Filed 3-7-07; 8:45 am]

BILLING CODE 4910-22-P